DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 15, 2003.

Interested persons are invited to submit written comments regarding the subject matter of the investigations to the Director, Division of Trade Adjustment Assistance, at the address shown below, not later than August 15, 2003.

The petitions filed in this case are available for inspection at the Office of the Director, Division of Trade Adjustment Assistance, Employment and Training Administration, U.S. Department of Labor, Room C-5311, 200 Constitution Avenue, NW, Washington, DC 20210.

Signed at Washington, DC this 21st day of July 2003.
Timothy Sullivan,
Director, Division of Trade Adjustment Assistance.

Appendix
[Petitions Instituted Between 07/14/03 and 07/18/03]
TA-W | Subject firm (petitioners) | Location | Date of institution | Date of petition
52,297 | Intermet (Comp) | Radford, VA | 07/14/03 | 06/23/03
52,298 | Harriet and Henderson Yarns, Inc. (Comp) | Henderson, NC | 07/14/03 | 07/11/03
52,299 | Gerber Plumbing Fixtures, LLC (Wkrs) | Delphi, IN | 07/14/03 | 07/11/03
52,300 | A.O. Smith Corporation (Comp) | McBee, SC | 07/14/03 | 07/08/03
52,301 | Edgcomb Metals (USWA) | Roseville, MI | 07/14/03 | 07/01/03
52,302 | Grayson Properties Corporation (Comp) | Galax, VA | 07/14/03 | 07/14/03
52,303 | DOW Chemical Company (USWA) | Ludington, MI | 07/14/03 | 07/07/03
52,304 | Standard Register Company (Wkrs) | Kirkville, MO | 07/14/03 | 07/07/03
52,305 | National Steel Corp. (Wkrs) | Trenton, MI | 07/14/03 | 07/03/03
52,306 | York International Corporation (Comp) | York, PA | 07/15/03 | 07/11/03
52,307 | Ovalstrapping, Inc. (Wkrs) | Fort Payne, AL | 07/15/03 | 07/14/03
52,308 | Cal Quality Electronics (Comp) | Santa Ana, CA | 07/15/03 | 07/11/03
52,309 | B.A.G. Corporation (Comp) | Pennington Gap, VA | 07/15/03 | 07/10/03
52,310 | Stopfill, Inc. (Comp) | Mt. Pleasant, PA | 07/15/03 | 07/02/03
52,311 | Ceodeux, Inc. (Comp) | Mt. Pleasant, PA | 07/15/03 | 07/02/03
52,312 | Rotarex Inc., N.A. (Comp) | Mt. Pleasant, PA | 07/15/03 | 07/02/03
52,313 | Convergys (Wkrs) | Orem, UT | 07/15/03 | 07/14/03
52,314 | Presstek, Inc. (Wkrs) | Hudson, NH | 07/15/03 | 07/07/03
52,315 | Murphy's Custom Canvas (Comp) | Central Point, OR | 07/15/03 | 07/14/03
52,316 | Louisiana Pacific (Wkrs) | Bonners Ferry, ID | 07/15/03 | 06/26/03
52,317 | Onamac Industries, Inc. (WA) | Everett, WA | 07/15/03 | 07/14/03
52,318 | GE Osmonics (Wkrs) | Minnetonka, MN | 07/15/03 | 07/10/03
52,319 | Akron Porcelain and Plastics (USWA) | Akron, OH | 07/15/03 | 06/20/03
52,320 | Computer Sciences Corp. (Wkrs) | Newark, DE | 07/15/03 | 06/19/03
52,321 | Anvil International Inc. (Wkrs) | S. Kearny, NJ | 07/15/03 | 07/14/03
52,322 | DeMarco California Fabrics (NY) | New York, NY | 07/16/03 | 07/15/03
52,323 | Stanek Tool Corporation (Comp) | New Berlin, WI | 07/16/03 | 07/15/03
52,324 | Medite Division of Sierra Pine, Ltd. (AWPPW) | Medford, OR | 07/16/03 | 07/10/03
52,325 | Solectron (Wkrs) | Beaverton, OR | 07/16/03 | 06/30/03
52,326 | Bojud Knitting Mills, Inc. (Comp) | Amsterdam, NY | 07/16/03 | 07/08/03
52,327 | NIBCO (USWA) | Elkhart, IN | 07/16/03 | 07/15/03
52,328 | Photocircuits (GA) | Peachtree, GA | 07/16/03 | 07/16/03
52,329 | ASML (Wkrs) | Austin, TX | 07/16/03 | 0714/03
52,330 | Computer Sciences Corporation (Wkrs) | Dallas, TX | 07/16/03 | 07/15/03
52,331 | Advanced Micro Device (Wkrs) | Austin, TX | 07/16/03 | 04/15/03
52,332 | Aircraft Precision Products, Inc. (Comp) | Ithaca, MI | 07/16/03 | 07/15/03
52,333 | Kline Iron and Steel Co., Inc. (Comp) | W. Columbia, SC | 07/16/03 | 07/15/03
52,334 | TNS Mills, Inc. (Wkrs) | Gaffney, SC | 07/16/03 | 07/16/03
52,335 | American Bag (Comp) | Sterns, KY | 07/17/03 | 07/17/03
52,336 | Consolidated Diesel Co. (NC) | Whitakers, NC | 07/17/03 | 07/16/03
52,337 | Kaba High Security Locks Corp. (Comp) | Southington, CT | 07/17/03 | 07/16/03
52,338 | Takata Petri Inc. (Comp) | Port Huron, MI | 07/17/03 | 07/16/03
52,339 | Metal FX (Wkrs) | Willits, CA | 07/17/03 | 07/16/03
52,340 | RST and B Curtain and Drapery (Comp) | Florence, SC | 07/17/03 | 07/17/03
52,341 | Firestone Tube Company (USWA) | Russellville, AR | 07/18/03 | 07/16/03
52,342 | Citation (Comp) | Browntown, WI | 07/18/03 | 07/16/03
52,343 | Control Devices (Comp) | Stadish, ME | 07/18/03 | 07/16/03
52,344 | Green Bay Packaging (PACE) | Green Bay, WI | 07/18/03 | 07/03/03
52,345 | SPX Dock Products (Comp) | Milwaukee, WI | 07/18/03 | 07/17/03
52,346 | George F. Adams Co., Inc. (Comp) | Moscow, VT | 07/18/03 | 07/18/03
52,347 | Astaris LLC (Comp) | Soda Springs, ID | 07/18/03 | 07/15/03
52,348 | Labinal Snecma Group (Comp) | Corinth, TX | 07/18/03 | 07/16/03

[FR Doc. 03-19850 Filed 8-4-03; 8:45 am]

BILLING CODE 4510-30-M